SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: October 1-31, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Talisman Energy USA, Inc., Pad ID: 02 113 Reinfried C, ABR-201109004.R1, Warren Township, Tioga County, Pa.; Consumptive Use of Up to 6.0000 mgd; Approval Date: October 5, 2016.

2. Chesapeake Appalachia, LLC, Pad ID: Circle Z BRA, ABR-201203031.R1, Wilmot Township, Bradford County, Pa.; Consumptive Use of Up to 7.5000 mgd; Approval Date: October 5, 2016.

3. Chesapeake Appalachia, LLC, Pad ID: Floydie, ABR-201203019.R1, Tuscarora Township, Bradford County, Pa.; Consumptive Use of Up to 7.5000 mgd; Approval Date: October 5, 2016.

4. Chesapeake Appalachia, LLC, Pad ID: Hattie BRA, ABR-201203030.R1, Wilmot Township, Bradford County, Pa.; Consumptive Use of Up to 7.5000 mgd; Approval Date: October 5, 2016.

5. Chesapeake Appalachia, LLC, Pad ID: Maggie, ABR-201203020.R1, Tuscarora Township, Bradford County, Pa.; Consumptive Use of Up to 7.5000 mgd; Approval Date: October 5, 2016.

6. Chesapeake Appalachia, LLC, Pad ID: R&N, ABR-201203014.R1, Cherry Township, Sullivan County, Pa.; Consumptive Use of Up to 7.5000 mgd; Approval Date: October 5, 2016.

7. EOG Resources, Inc., Pad ID: WOLFE Pad, ABR-201110033.R1, Smithfield Township, Bradford County, Pa.; Consumptive Use of Up to 4.9990 mgd; Approval Date: October 6, 2016.

8. EOG Resources, Inc., Pad ID: WALLACE Pad, ABR-201110032.R1, Smithfield Township, Bradford County, Pa.; Consumptive Use of Up to 4.9990 mgd; Approval Date: October 6, 2016.

9. EOG Resources, Inc., Pad ID: PRUYNE 1H Pad, ABR-201110034.R1, Smithfield Township, Bradford County, Pa.; Consumptive Use of Up to 4.9990 mgd; Approval Date: October 6, 2016.

10. SWN Production Company, LLC, Pad ID: CSB, ABR-201108013.R1, Cherry Township, Sullivan County, Pa.; Consumptive Use of Up to 7.5000 mgd; Approval Date: October 11, 2016.

11. Cabot Oil & Gas Corporation, Pad ID: WilliamsD P1, ABR-201110018.R1, Brooklyn Township, Susquehanna County, Pa.; Consumptive Use of Up to 3.5750 mgd; Approval Date: October 11, 2016.

12. SWN Production Company, LLC, Pad ID: CHILSON-JENNINGS, ABR-201201012.R1, Herrick Township, Bradford County, Pa.; Consumptive Use of Up to 4.9990 mgd; Approval Date: October 13, 2016.

13. Chesapeake Appalachia, LLC, Pad ID: Manning, ABR-201204009.R1, Cherry Township, Sullivan County, Pa.; Consumptive Use of Up to 7.5000 mgd; Approval Date: October 17, 2016.

14. Chesapeake Appalachia, LLC, Pad ID: Freed, ABR-201204014.R1, Albany Township, Bradford County, Pa.; Consumptive Use of Up to 7.5000 mgd; Approval Date: October 17, 2016.

15. Chesapeake Appalachia, LLC, Pad ID: Reilly, ABR-201204015.R1, Colley Township, Sullivan County, Pa.; Consumptive Use of Up to 7.5000 mgd; Approval Date: October 17, 2016.

16. EOG Resources, Inc., Pad ID: ASHBY Pad, ABR-201110031.R1, Athens and Smithfield Townships, Bradford County, Pa.; Consumptive Use of Up to 4.9990 mgd; Approval Date: October 17, 2016.

17. SWN Production Company, LLC, Pad ID: Carty-Wisemen Well Pad, ABR-201109006.R1, Liberty Township, Susquehanna County, Pa.; Consumptive Use of Up to 4.0000 mgd; Approval Date: October 17, 2016.

18. SWN Production Company, LLC, Pad ID: Kass North Well Pad, ABR-201109007.R1, Liberty Township, Susquehanna County, Pa.; Consumptive Use of Up to 4.0000 mgd; Approval Date: October 17, 2016.

19. SWN Production Company, LLC, Pad ID: Robinson Well Pad, ABR-201109009.R1, Liberty Township, Susquehanna County, Pa.; Consumptive Use of Up to 4.0000 mgd; Approval Date: October 17, 2016.

20. SWN Production Company, LLC, Pad ID: HDK Pad, ABR-201112001.R1, Franklin Township, Susquehanna County, Pa.; Consumptive Use of Up to 4.0000 mgd; Approval Date: October 17, 2016.

21. Chief Oil & Gas LLC, Pad ID: Leh Drilling Pad #1, ABR-201204002.R1, Burlington Township, Bradford County, Pa.; Consumptive Use of Up to 2.0000 mgd; Approval Date: October 19, 2016.

22. Talisman Energy USA, Inc., Pad ID: 03 078 Bellows L, ABR-201610001, Columbia Township, Bradford County, Pa.; Consumptive Use of Up to 6.0000 mgd; Approval Date: October 21, 2016.

23. SWN Production Company, LLC, Pad ID: HOWLAND-LENT, ABR-201112032.R1, Herrick Township, Bradford County, Pa.; Consumptive Use of Up to 4.9990 mgd; Approval Date: October 21, 2016.

24. Chesapeake Appalachia, LLC, Pad ID: Rainbow BRA, ABR-201203033.R1, Terry Township, Bradford County, Pa.; Consumptive Use of Up to 7.5000 mgd; Approval Date: October 24, 2016.

25. Inflection Energy (PA), LLC, Pad ID: Ultimate Warrior, ABR-201111036.R1, Upper Fairfield Township, Lycoming County, Pa.; Consumptive Use of Up to 4.0000 mgd; Approval Date: October 27, 2016.

26. Range Resources—Appalachia, LLC, Pad ID: Bobst Unit #34H-#37H, ABR-201111004.R1, Cogan House Township, Lycoming County, Pa.; Consumptive Use of Up to 1.0000 mgd; Approval Date: October 31, 2016.

27. Range Resources—Appalachia, LLC, Pad ID: Sechrist, Mark—#1H-#3H, ABR-201111005.R1, Anthony Township, Lycoming County, Pa.; Consumptive Use of Up to 1.0000 mgd; Approval Date: October 31, 2016.

28. Range Resources—Appalachia, LLC, Pad ID: Red Bend B Unit—#1H-#8H, ABR-201111006.R1, Cogan House Township, Lycoming County, Pa.; Consumptive Use of Up to 1.0000 mgd; Approval Date: October 31, 2016.

29. Range Resources—Appalachia, LLC, Pad ID: Red Bend C Unit—#1H-#5H, ABR-201111007.R1, Cogan House Township, Lycoming County, Pa.; Consumptive Use of Up to 1.0000 mgd; Approval Date: October 31, 2016.

Authority: Pub. L. 91-575, 84 Stat. 1509 et seq., 18 CFR parts 806, 807, and 808.

Dated: November 28, 2016.
Stephanie L. Richardson,
Secretary to the Commission.

[FR Doc. 2016-28875 Filed 11-30-16; 8:45 am]

BILLING CODE 7040-01-P